ENVIRONMENTAL PROTECTION AGENCY

[FRL-10025-58-OP]

Request for Nominations for the Science Advisory Board 2021 Scientific and Technological Achievement Awards Panel

AGENCY: Environmental Protection Agency (EPA).

ACTION: Notice.

SUMMARY: The Environmental Protection Agency (EPA) Science Advisory Board (SAB) Staff Office requests public nominations of scientific experts to form the SAB 2021 Scientific and Technological Achievement Awards (STAA) Panel.

DATES: Nominations should be submitted by July 27, 2021 per the instructions below.

FOR FURTHER INFORMATION CONTACT: Any member of the public wishing further information regarding this notice and request for nominations may contact Dr. Holly Stallworth, Designated Federal Officer (DFO), EPA Science Advisory Board Staff Office by telephone/voice mail (202) 564-2073 or email at stallworth.holly@epa.gov. General information concerning the EPA SAB can be found at the EPA SAB website at http://www.epa.gov/sab.

SUPPLEMENTARY INFORMATION:

Background: The SAB (42 U.S.C. 4365) is a chartered Federal Advisory Committee that provides independent scientific and technical peer review, advice, and recommendations to the EPA Administrator on the technical basis for EPA actions. As a Federal Advisory Committee, the SAB conducts business in accordance with the Federal Advisory Committee Act (FACA) (5 U.S.C. app. 2) and related regulations. The SAB Staff Office is forming the 2021 STAA Panel, under the auspices of the Chartered SAB. The 2021 STAA Panel will provide advice through the chartered SAB. The SAB and the 2021 STAA Panel will comply with the provisions of FACA and all appropriate SAB Staff Office procedural policies.

The EPA established the STAA in 1980 to recognize Agency scientists and engineers who published their work in the peer-reviewed literature. The STAA Program is an agency-wide competition to promote and recognize scientific and technological achievements by EPA employees. The STAA program is administered and managed by the EPA's Office of Research and Development (ORD). Each year the SAB has been asked to review the EPA's STAA nominations and make recommendations to the Administrator for monetary awards.

Request for Nominations: The SAB Staff Office is seeking nominations of nationally and internationally recognized scientists with demonstrated expertise in the following disciplines as they relate to human health and the environment: Air pollution exposure; chemical engineering; civil and environmental engineering; decision science; ecology; environmental economics; groundwater and surface water contaminant fate and transport; human health effects and risk assessment; monitoring and measurement methods for air and water; risk management; transport and fate of contaminants; water quality; and water and wastewater treatment processes. The SAB Staff Office is especially interested in scientists and engineers with expertise described above who have knowledge and experience in air quality; aquatic and ecological toxicology; chemical safety; community environmental health; dosimetry and inhalation toxicology; drinking water; ecological modeling; ecological risk assessment; ecosystem restoration; ecosystem services; energy and the environment; epidemiology; green chemistry; homeland security; human health dosimetry; mechanisms of toxicity and carcinogenicity; metabolism; statistics; sustainability; toxicokinetics; toxicology; waste and waste management; and water re-use.

Process and Deadline for Submitting Nominations: Any interested person or organization may nominate qualified individuals in the areas of expertise described above for possible service on the 2021 STAA Committee. Individuals may self-nominate. Nominations should be submitted in electronic format (preferred) following the instructions for “Nominating Experts to Advisory Panels and Ad Hoc Committees Being Formed,” provided on the SAB website (see the “Nomination of Experts” link under “Current Activities” at http://www.epa.gov/sab). To be considered, nominations should include the information requested below. EPA values and welcomes diversity. All qualified candidates are encouraged to apply regardless of sex, race, disability or ethnicity. Nominations should be submitted in time to arrive no later than July 27, 2021.

The following information should be provided on the nomination form: Contact information for the person making the nomination; contact information for the nominee; and the disciplinary and specific areas of expertise of the nominee. Nominees will be contacted by the SAB Staff Office and will be asked to provide a recent curriculum vitae and a narrative biographical summary that includes: Current position, educational background; research activities; sources of research funding for the last two years; and recent service on other national advisory committees or national professional organizations. Persons having questions about the nomination procedures, or who are unable to submit nominations through the SAB website, should contact the DFO at the contact information noted above. The names and biosketches of qualified nominees identified by respondents to this Federal Register notice, and additional experts identified by the SAB Staff Office, will be posted in a List of Candidates on the SAB website at http://www.epa.gov/sab. Public comments on the List of Candidates will be accepted for 21 days. The public will be requested to provide relevant information or other documentation on nominees that the SAB Staff Office should consider in evaluating candidates.

For the EPA SAB Staff Office a balanced review committee includes candidates who possess the necessary domains of knowledge, the relevant scientific perspectives (which, among other factors, can be influenced by work history and affiliation), and the collective breadth of experience to adequately address the charge. In forming the 2021 STAA Panel, the SAB Staff Office will consider public comments on the Lists of Candidates, information provided by the candidates themselves, and background information independently gathered by the SAB Staff Office. Selection criteria to be used for committee membership include: (a) Scientific and/or technical expertise, knowledge, and experience (primary factors); (b) availability and willingness to serve; (c) absence of financial conflicts of interest; (d) absence of an appearance of a loss of impartiality; (e) skills working in committees, subcommittees and advisory panels; and, (f) for the committee as a whole, diversity of expertise and scientific points of view.

The SAB Staff Office's evaluation of an absence of financial conflicts of interest will include a review of the “Confidential Financial Disclosure Form for Environmental Protection Agency Special Government Employees” (EPA Form 3110-48). This confidential form is required and allows government officials to determine whether there is a statutory conflict between a person's public responsibilities (which include membership on an EPA federal advisory committee) and private interests and activities, or the appearance of a loss of impartiality, as defined by federal regulation. The form may be viewed and downloaded through the “Ethics Requirements for Advisors” link on the SAB website at http://www.epa.gov/sab. This form should not be submitted as part of a nomination.

The approved policy under which the EPA SAB Office selects members for subcommittees and review panels is described in the following document: Overview of the Panel Formation Process at the Environmental Protection Agency Science Advisory Board (EPA-SAB-EC-02-010), which is posted on the SAB website at http://www.epa.gov/sab.

V. Khanna Johnston,
Deputy Director, Science Advisory Board Staff Office.

[FR Doc. 2021-14285 Filed 7-2-21; 8:45 am]

BILLING CODE 6560-50-P